DEPARTMENT OF THE INTERIOR

Fish and Wildlife Service

50 CFR Part 29

[Docket No. FWS-R9-NWRS-2011-0108; FVRS84510900000U2-12X-FF09R50000]

RIN 1018-AU89

Change of Addresses for Regional Offices, Addition of One New Address, and Correction of Names of House and Senate Committees We Must Notify

AGENCY: Fish and Wildlife Service, Department of the Interior.

ACTION: Final rule; technical amendment.

SUMMARY: We, the U.S. Fish and Wildlife Service (we, or the Service), are revising our rights-of-way (ROW) general regulations, to update or add addresses of several Service Regional Offices, and to correct the names of the House and Senate Committees we must notify upon receipt of an application for a right-of-way for an oil and gas pipeline that is 24 inches or more in diameter and again before granting a right-of-way.

DATES: This rule is effective on February 6, 2012.

ADDRESSES: Chief, Division of Realty, National Wildlife Refuge System, U.S. Fish and Wildlife Service, 4401 N. Fairfax Drive, Room 622, Arlington, VA 22203.

FOR FURTHER INFORMATION CONTACT: Janet Bruner, (703) 358-2287.

SUPPLEMENTARY INFORMATION: We are revising our ROW general regulations at 50 CFR part 29, which prescribe the procedures for filing applications for ROWs over and across Service-administered lands and the terms and conditions under which we grant these ROWs, to update or add addresses of several Service Regional Offices and to correct the names of the House and Senate Committees we must notify upon receipt of an application for a right-of-way for an oil and gas pipeline that is 24 inches or more in diameter and again before granting a right-of-way.

Section 553 of the Administrative Procedure Act, 5 U.S.C. 553(b)(3)(B), provides that, when an agency for good cause finds that notice and public procedure are impracticable, unnecessary, or contrary to the public interest, the agency may issue a rule without providing notice and an opportunity for public comment. We have determined that there is good cause for making this rule final without prior proposal and opportunity for comment because we are merely updating the addresses for four of the Service's Regional Offices, adding an address for one of the Service's Regional Offices, and correcting the names of the House and Senate Committees we must notify upon receipt of an application for a right-of-way for an oil and gas pipeline that is 24 inches or more in diameter and again before granting a right-of-way. Thus, notice and public procedure are unnecessary. We find that this constitutes good cause under 5 U.S.C. 553(b)(3)(B).

In accordance with 5 U.S.C. 553(d), the Service finds there is good cause for this action to become effective immediately upon publication. The immediate effective date for this action is authorized under 5 U.S.C. 553(d)(3), which allows an effective date less than 30 days after publication “as otherwise provided by the agency for good cause found and published with the rule.” The purpose of the 30-day waiting period prescribed in section 553(d) is to give affected parties a reasonable time to adjust their behavior and prepare before the final rule takes effect. This rule, however, does not create any new regulatory requirements such that affected parties would need time to prepare before the rule takes effect. Rather, this rule simply updates, corrects, and adds addresses for the Service's Regional Offices, and corrects the names of the House and Senate Committees we must notify upon receipt of an application for a right-of-way for an oil and gas pipeline that is 24 inches or more in diameter and again before granting a right-of-way. For this reason, the Service finds good cause under 5 U.S.C. 553(d)(3) for this action to become effective on the date of publication of this action.

Statutory and Executive Order Reviews

Determination To Issue Final Rule Effective in Less Than 30 Days

We have determined that the public notice and comment provisions of the Administrative Procedure Act, 5 U.S.C. 553(b), do not apply to this rulemaking because the changes being made relate solely to matters of agency organization. We have determined that there is good cause for making this rule final without prior proposal and opportunity for comment because we are merely updating the addresses for four of the Service's Regional Offices, adding an address for one of the Service's Regional Offices, and correcting the names of the House and Senate Committees we must notify upon receipt of an application for a right-of-way for an oil and gas pipeline that is 24 inches or more in diameter and again before granting a right-of-way. Thus, notice and public procedure are unnecessary. We find that this constitutes good cause under 5 U.S.C. 553(b)(3)(B).

Review Under Procedural Statutes and Executive Orders

We have reviewed this rule under the following statutes and executive orders governing rulemaking procedures: the Unfunded Mandates Reform Act of 1995, 2 U.S.C. 1501 et seq.; the Regulatory Flexibility Act, 5 U.S.C. 601 et seq.; the Small Business Regulatory Enforcement Fairness Act of 1996, 5 U.S.C. 801 et seq.; the Paperwork Reduction Act, 44 U.S.C. 3501 et seq.; the National Environmental Policy Act of 1969, 42 U.S.C. 4321 et seq.; Executive Order 12630 (Takings); Executive Order 12866 (Regulatory Planning and Review); Executive Order 12988 (Civil Justice Reform); Executive Order 13045 (Economic Significance); Executive Order 13132 (Federalism); Executive Order 13175 (Tribal Consultation); and Executive Order 13211 (Energy Impacts). This rule does not trigger any of the procedural requirements of those statutes and executive orders, since this rule merely updates and adds addresses for Fish and Wildlife Service offices, and corrects the names of the House and Senate Committees we must notify upon receipt of an application for a right-of-way for an oil and gas pipeline that is 24 inches or more in diameter and again before granting a right-of-way.

Other Statutory and Executive Order Reviews

This rule is not subject to Executive Order 12045 (62 FR 19885, April 23, 1997), because it is not economically significant. This action does not involve technical standards; thus the requirements of section 12(d) of the National Technology Transfer and Advancement Act of 1995 (15 U.S.C. 271 et seq.) do not apply. This rule also does not require special consideration of issues related to environmental justice as required by Executive Order 12898.

Submission to Congress and the Comptroller General

The Congressional Review Act (CRA) (5 U.S.C. 801 et seq.) as added by the Small Business Regulatory Enforcement Fairness Act of 1966, generally provides that, before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary, or contrary to the public interest. This determination must be supported by a brief statement. 5 U.S.C. 808(2). As stated previously, the Service has made such a good cause finding, including the reasons therefore, and established an effective date immediately upon publication in the Federal Register. The Service will submit a report containing this rule and other required information to the U.S. Senate, the U.S. House of Representatives, and the Comptroller General of the United States prior to publication of the rule in the Federal Register. These updates and the addition to 50 CFR part 29 do not constitute a “major rule” as defined by 5 U.S.C. 804(2).

List of Subjects in 50 CFR Part 29

Public lands—mineral resources, Public lands—rights-of-way, Wildlife refuges.

Regulation Promulgation

For the reasons set forth in the preamble, we amend title 50, chapter I, subchapter C of the Code of Federal Regulations as follows:

PART 29—LAND USE MANAGEMENT

1. The authority citation for part 29 continues to read as follows:

Authority: Sec. 2, 33 Stat. 614, as amended, sec. 5, 43 Stat. 651, secs. 5, 10, 45 Stat. 449, 1224, secs. 4, 2, 48 Stat. 402, as amended, 1270, sec. 4, 76 Stat. 645; 5 U.S.C. 301, 16 U.S.C. 668dd, 685, 725, 690d, 715i, 664, 43 U.S.C. 315a, 16 U.S.C. 460k; 80 Stat. 926.

2. Amend § 29.21-2 by:

a. Revising the introductory text of paragraph (c) and paragraphs (c)(1) and (c)(3) through (c)(5); and

b. Adding a new paragraph (c)(8), to read as follows:

§ 29.21-2 Application procedures.

* * * * *

(c) Regional Directors' addresses. (1) For the States of Hawaii, Idaho, Oregon, and Washington; the Territories of American Samoa and Guam; the Commonwealth of the Northern Mariana Islands; the Freely Associated States of the Federated States of Micronesia; and the Republics of the Marshall Islands and Palau: Regional Director, U.S. Fish and Wildlife Service, 911 NE 11th Avenue, Portland, Oregon 97232.

* * * * *

(3) For the States of Illinois, Indiana, Iowa, Michigan, Minnesota, Missouri, Ohio, and Wisconsin: Regional Director, U.S. Fish and Wildlife Service, 5600 American Blvd. West, Suite 990, Bloomington, Minnesota 55437-1458.

(4) For the States of Alabama, Arkansas, Florida, Georgia, Kentucky, Louisiana, Mississippi, North Carolina, South Carolina, and Tennessee; the Commonwealth of Puerto Rico; and the U.S. Virgin Islands: Regional Director, U.S. Fish and Wildlife Service, 1875 Century Blvd., Atlanta, Georgia 30345.

(5) For the States of Connecticut, Delaware, Maine, Maryland, Massachusetts, New Hampshire, New York, New Jersey, Pennsylvania, Rhode Island, Vermont, Virginia, and West Virginia: Regional Director, U.S. Fish and Wildlife Service, 300 Westgate Center Drive, Hadley, Massachusetts 01035.

* * * * *

(8) For the States of California and Nevada: Regional Director, U.S. Fish and Wildlife Service, 2800 Cottage Way, Sacramento, California 95825.

3. Amend § 29.21-9 by revising paragraph (m) to read as follows:

§ 29.21-9 Rights-of-way for pipelines for the transportation of oil, natural gas, synthetic liquid or gaseous fuels, or any refined product produced therefrom.

* * * * *

(m) Congressional notification. The Secretary shall promptly notify the Committee on Natural Resources of the United States House of Representatives and the Committee on Energy and Natural Resources of the United States Senate upon receipt of an application for a right-of-way for pipeline 24 inches or more in diameter, and no right-of-way for such a pipeline shall be granted until 60 days (not including days on which the House or Senate has adjourned for more than three days) after a notice of intention to grant the right-of-way, together with the Secretary's detailed findings as to the terms and conditions he proposes to impose, has been submitted to such committees.

Dated: January 24, 2012.
Rachel Jacobson,
Acting Assistant Secretary for Fish and Wildlife and Parks.

[FR Doc. 2012-2541 Filed 2-3-12; 8:45 am]

BILLING CODE 4310-55-P